DEPARTMENT OF COMMERCE

International Trade Administration

House Ear Institute, et al.; Notice of Consolidated Decision on Applications for Duty-Free Entry of Electron Microscopes

This is a decision consolidated pursuant to Section 6(c) of the Educational, Scientific, and Cultural Materials Importation Act of 1966 (Pub. L. 89-651, as amended by Pub. L. 106-36; 80 Stat. 897; 15 CFR part 301). Related records can be viewed between 8:30 a.m. and 5 p.m. in Room 2104, U.S. Department of Commerce, 14th and Constitution Avenue, NW., Washington, DC.

Docket Number: 08-055. Applicant: House Ear Institute, Los Angeles, CA 90057. Instrument: Electron Microscope, Model Technai G2 20 TEM. Manufacturer: FEI Company, Czech Republic. Intended Use: See notice at 73 FR 74703, December 9, 2008.

Docket Number: 08-057. Applicant: Louisiana State University, Baton Rouge, LA 70803. Instrument: Electron Microscope, Model FEI Quanta 3D FEG DualBeam. Manufacturer: FEI Company, the Netherlands. Intended Use: See notice at 73 FR 70961, November 24, 2008.

Docket Number: 08-058. Applicant: University of New Mexico, Albuquerque, NM 87131. Instrument: Electron Microscope, Model FEI Quanta 3D FEG Focused Ion Beam. Manufacturer: FEI Company, the Netherlands. Intended Use: See notice at 73 FR 70961, November 24, 2008.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Dated: January 26, 2009.
Christopher D. Cassel,
Acting Director, Subsidies Enforcement Office, Import Administration.

[FR Doc. E9-2181 Filed 1-30-09; 8:45 am]

BILLING CODE 3510-DS-P